DEPARTMENT OF ENERGY

Federal Energy Regulatory Commission

[Docket No. CP22-461-000]

Transcontinental Gas Pipe Line Company, LLC; Notice of Availability of the Final Environmental Impact Statement for the Proposed Southside Reliability Enhancement Project

The staff of the Federal Energy Regulatory Commission (FERC or Commission) has prepared a final environmental impact statement (EIS) for the Southside Reliability Enhancement Project (Project), proposed by Transcontinental Gas Pipe Line Company, LLC (Transco) in the above-referenced docket. Transco requests authorization to construct and operate one new compressor station and modify two existing compressor stations and three existing meter stations in North Carolina and Virginia. The Project would provide an incremental 423,400 dekatherms per day (Dth/d) of year-round firm transportation capacity from Transco's Compressor Station 165 and Pine Needle Storage Facility along the mainline and South Virginia Lateral pipeline systems to delivery points in North Carolina.

The final EIS assesses the potential environmental effects of the construction and operation of the Project in accordance with the requirements of the National Environmental Policy Act (NEPA). The FERC staff concludes that approval of the proposed Project, with the mitigation measures recommended in the EIS, would result in some adverse environmental impacts; however, impacts would be reduced to less-than-significant levels. Regarding climate change impacts, the Project's construction and operation emissions would increase the atmospheric concentration of greenhouse gases (GHG), in combination with past, present, and future emissions from all other sources. Climate change impacts are not characterized in the EIS as significant or insignificant because the Commission is conducting a generic proceeding to determine whether and how the Commission will conduct significance determinations going forward.¹ The EIS also concludes that no system or other alternative site would meet the Project objective while providing a significant environmental advantage over the Project as proposed.

¹ Consideration of Greenhouse Gas Emissions in Natural Gas Infrastructure Project Reviews, 178 FERC ¶ 61,108 (2022); 178 FERC ¶ 61,197 (2022).

The final EIS addresses the potential environmental effects of the construction and operation of the following Project facilities:

• installation of a new compressor station (Compressor Station 168) which includes one new 33,000 horsepower electric motor-driven compressor unit, and installation of new mainline valves on South Virginia Lateral A-Line and B-Line at the new Compressor Station 168 in Mecklenburg County, Virginia;

• addition of one 16,000 horsepower electric motor-driven compressor unit at existing Compressor Station 166 in Pittsylvania County, Virginia;

• installation of piping modifications to allow for flow reversal at existing Compressor Station 155 in Davidson County, North Carolina;

• replacement of one meter run to increase delivery volumes at the existing Ahoskie Meter Station in Hertford County, North Carolina;

• installation of new facilities to increase delivery volumes at the existing Pleasant Hill Meter Station in Northampton County, North Carolina; and

• upgrade meter and controls and debottleneck piping at the existing Iredell Meter Station in Iredell County, North Carolina.

The Commission mailed a copy of the Notice of Availability of the final EIS to Federal, State, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field (i.e., CP22-461). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: February 24, 2023.
Kimberly D. Bose,
Secretary.

[FR Doc. 2023-04310 Filed 3-1-23; 8:45 am]

BILLING CODE 6717-01-P